DEPARTMENT OF DEFENSE

Office of the Secretary

National Defense University Board of Visitors (BOV); Open Meeting

AGENCY: National Defense University, DoD.

ACTION: Notice of open meeting.

SUMMARY: The National Defense University, Designated Federal Officer, has scheduled a meeting of the Board of Visitors (BOV). The BOV is a Federal Advisory Board that meets twice a year in proceedings that are open to the public.

DATES: The meeting will be held on April 15 (from 11:30 a.m. to 5 p.m.) and on April 16 (from 8 a.m. to 12:30 p.m.), 2010.

ADDRESSES: The meeting will be held at: Marshall Hall, Building 62, Room 155, the National Defense University, 300 5th Avenue, SW., Fort McNair, Washington, DC 20319-5066.

FOR FURTHER INFORMATION CONTACT: Ms. Dolores Hodge by phone (202) 685-2649, fax (202) 685-7707 or e-mail HodgeD@ndu.edu.

SUPPLEMENTARY INFORMATION: The future agenda will include discussion on Defense transformation, faculty development, facilities, information technology, curriculum development, post 9/11 initiatives as well as other operational issues and areas of interest affecting the day-to-day operations of the National Defense University and its components. The meeting is open to the public; limited space made available for observers will be allocated on a first come, first served basis. Written statements to the committee may be submitted at any time or in response to a stated planned meeting agenda by fax or e-mail (see FOR FURTHER INFORMATION CONTACT). The subject line of the e-mail should read: “Comment/Statement to the NDU BOV.”

Dated: January 7, 2010.
Mitchell S. Bryman,
Alternate OSD Federal Register Liaison Officer, Department of Defense.

[FR Doc. 2010-395 Filed 1-12-10; 8:45 am]

BILLING CODE 5001-06-P